NUCLEAR REGULATORY COMMISSION

[Docket No. 72-1050; NRC-2016-0231]

Integrated Storage Partner's Waste Control Specialists Consolidated Interim Storage Facility

Correction

In notice document 2018-18758, appearing on pages 44070-44075 in the Issue of Wednesday, August 29, 2018, make the following correction:

On page 44070, in the second column, under the heading “DATES”, on the third line, the entry “August 29, 2018” is corrected to read “October 29, 2018”.

[FR Doc. C1-2018-18758 Filed 8-30-18; 8:45 am]

BILLING CODE 1301-00-D